DEPARTMENT OF TRANSPORTATION

Federal Aviation Administration

Approval of Noise Compatibility Program Brownsville/South Padre Island International Airport Brownsville, TX

AGENCY: Federal Aviation Administration, DOT.

ACTION: Notice.

SUMMARY: The Federal Aviation Administration (FAA) announces its findings on the noise compatibility program submitted by city of Brownsville for Brownsville/South Padre Island International Airport under the provisions of Title 49, USC, Chapter 475 and CFR part 150. These findings are made in recognition of the description of Federal and non-Federal responsibilities in Senate Report No. 96-52 (1980). On June 25, 2002, the FAA determined that the noise exposure maps submitted by the city of Brownsville for Brownsville/South Padre Island International Airport under Part 150 were in compliance with applicable requirements. On December 22, 2002, the Administrator approved the noise compatibility program. Most of the recommendations of the program were approved.

EFFECTIVE DATE: The effective date of the FAA's approval of the noise compatibility program for Brownsville/South Padre Island International Airport is December 22, 2002.

FOR FURTHER INFORMATION CONTACT: Ms. Nan L. Terry, Department of Transportation, Federal Aviation Administration, 2601 Meacham Boulevard, Fort Worth, Texas, 76137, (817) 222-5607. Documents reflecting this FAA action may be reviewed at this same location.

SUPPLEMENTARY INFORMATION: This notice announces that the FAA has given its overall approval to the noise compatibility program for Brownsville/South Padre Island International Airport, effective December 22, 2002.

Under Title 49 USC, Section 47504 (hereinafter referred to as “Title 49”), an airport operator who has previously submitted a noise exposure map may submit to the FAA a noise compatibility program which sets forth the measures taken or proposed by the airport operator for the reduction of existing non-compatible land uses within the area covered by the noise exposure maps. Title 49 requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and Title 49 and is limited to the following determinations:

a. The noise compatibility program was developed in accordance with the provisions and procedures of FAR Part 150,

b. Program measures are reasonably consistent with achieving the goals of reducing existing non-compatible land uses around the airport and preventing the introduction of additional non-compatible land uses,

c. Program measures would not create an undue burden on interstate or foreign commerce, unjustly discriminate against types or classes of aeronautical uses, violate the terms of airport grant agreements, or intrude into areas preempted by the Federal government, and

d. Program measures relating to the use of flight procedures can be implemented within the period covered by the program without derogating safety, adversely affecting the efficient use and management of the navigable airspace and air traffic control systems, or adversely affecting other powers and responsibilities of the Administrator prescribed by law.

Specific limitations with respect to the FAA's approval of an airport noise compatibility program are delineated in FAR part 150, § 150.5. Approval is not a determination concerning the acceptability of land uses under Federal, state, or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division Office in Forth Worth, Texas.

The city of Brownsville submitted to the FAA the noise exposure maps, descriptions, and other documentation produced during the noise compatibility planning study. The Brownsville/South Padre Island International Airport noise exposure maps were determined by the FAA to be in compliance with applicable requirements on June 25, 2002. Notice of this determination was published in the Federal Register on June 25, 2002.

The Brownsville/South Padre Island International Airport study contains a proposed noise compatibility program comprised of actions designed for phased implementation by airport management and adjacent jurisdictions from the date of study completion to the year 2005. It was requested that the FAA re-evaluate and approve this material as a noise compatibility program as described in Title 49. The FAA began its review of the program and was required by a provision of the Act to approve or disapprove the program within 180 days (other than the use of new flight procedures for noise control). Failure to approve or disapprove such program within the 180-day period shall be deemed to be an approval of such program.

The submitted program contained thirteen proposed actions for noise mitigation on and off the airport. The FAA completed its review and determined that the procedural and substantive requirements of Title 49 and FAR Part 150 have been satisfied. The overall program, therefore, was approved by the Administrator effective December 22, 2002.

Approval in part was granted for 12 of the 13 proposed action elements in the noise compatibility program proposed action elements in the noise compatibility program. The specific FAA action for each noise compatibility program element is set forth in the enclosed Record of Approval. The Administrator disapproved one of the thirteen proposed action elements in the noise compatibility program, pending submission of additional analysis. All of the approval and disapproval actions are more fully explained in the enclosed Record of Approval.

These determinations are set forth-in detail in a Record of Approval endorsed by the Administrator on December 22, 2002. The Record of Approval, as well as other evaluation materials and the documents comprising the submittal, are available at the FAA office listed above and at the administrative offices of the Department of Aviation, City of Brownsville, 700 S. Minnesota Avenue, Brownsville/South Padre Island International Airport, Brownsville, Texas 78521.

Issued in Forth Worth, Texas, January 22, 2003.
Naomi L. Saunders,
Manager, Airports Division.

[FR Doc. 03-2058 Filed 1-28-03; 8:45 am]

BILLING CODE 4910-13-M